DEPARTMENT OF HEALTH AND HUMAN SERVICES

Health Resources and Services Administration

Revisions to the Program Guidance for the Training in Primary Care Medicine and Dentistry Program

AGENCY: Health Resources and Services Administration (HRSA), HHS.

ACTION: General notice.

SUMMARY: HRSA announces a revision to the program guidance for the Training in Primary Care Medicine and Dentistry Program posted on August 23, 2007 on Grants.gov, http://www.grants.gov. The guidance includes information for the following competitive funding opportunities:

HRSA-08-032 Academic Administrative Units; HRSA-08-035 Physician Faculty Development; HRSA-08-037 Predoctoral Training; HRSA-08-039 Physician Assistant Training; HRSA-08-042 Residency Training; and HRSA-08-044 Residency Training in General and Pediatric Dentistry. This revision only affects the Physician Faculty Development program, HRSA-08-035. A revised guidance has been posted on Grants.gov. Specifically, the additional language included in the guidance is presented below:

Primary Care Clinician Research Fellowship—This track provides fellowships that focus on development of primary care research investigators.

Duration—Fellowships will last 2 to 3 years.

Features—Applications should include a rigorous research/training track which is offered at an academic health science center. Advanced degrees (e.g., M.P.H., M.P.A.) are a desirable option. Desirable candidates include multidisciplinary physician faculty and fellows. Research areas should be consistent with the scope and content of primary care practice and education, and may include such areas as the linkage between Healthy People 2010 and health disparities, community and practice-based research, patient safety, quality improvement, professionalism, health literacy, and cultural competency.

Stipend Level—Enhanced stipend level is equivalent to National Research Service Award (NRSA) stipends, which range from $36,996 for individuals entering immediately following receipt of their doctoral degree to $51,036 for individuals with 7 years or more of relevant experience and/or training. A table of stipend levels is provided in this guidance. Supplementation of the stipends is allowable and encouraged; however, the combination of stipend and supplementation may not exceed the full-time salary of comparable multidisciplinary physician faculty at the applicant's institution.

Time Requirement—Pro-rated stipends are not available. For applicants requesting full stipends, 60 percent of a Fellow's time for 24- to 36 months of fellowship must be devoted to formal research training. The remaining 40 percent of time for a 24 to 36-month fellowship must be spent in activities consistent with the roles of academic faculty (clinical practice, teaching, and/or administration).

FOR FURTHER INFORMATION CONTACT: Brenda L. Williamson, MA, CTHE, Chief, Primary Care Medical Education Branch, Division of Medicine and Dentistry, Bureau of Health Professions, HRSA, 5600 Fishers Lane, Rockville, MD 20857, (301) 443-1467.

Dated: October 25, 2007.
Elizabeth M. Duke,
Administrator.

[FR Doc. E7-21520 Filed 10-31-07; 8:45 am]

BILLING CODE 4165-15-P